DEPARTMENT OF THE INTERIOR

Bureau of Land Management

[MTM 93245]

Notice of Proposed Withdrawal and Opportunity for Public Meeting; Montana

AGENCY: Bureau of Land Management, Interior.

ACTION: Notice.

SUMMARY: The United States Forest Service has asked the Secretary of the Interior to withdraw 390 acres of National Forest System land to preserve the unique resource of quartz crystals in the Crystal Park Recreational Mineral Collection Area Addition. This notice segregates the land for up to 2 years from location and entry under the United States mining laws. The land will remain open to all activities currently consistent with applicable Forest plans and those related to exercise of valid existing rights.

DATES: Comments and requests for a public meeting must be received by July 12, 2004.

ADDRESSES: Comments and meeting requests should be sent to the Forest Supervisor, Beaverhead-Deerlodge National Forest, 420 Barrett Street, Dillon, Montana 59725.

FOR FURTHER INFORMATION CONTACT: Sandra Ware, Bureau of Land Management at (406) 896-5052 or Scott Bixler, USDA Forest Service at (406) 329-3655.

SUPPLEMENTARY INFORMATION: The Forest Service has filed an application to withdraw the following-described National Forest System land from location and entry under the United States mining laws, subject to valid existing rights:

Principal Meridian, Montana

Beaverhead-Deerlodge National Forest

T. 4 S., R. 12 W.,

sec. 8, E½SE¼;

sec. 9, SW¼;

sec. 16, N½NW¼, NE¼SW¼NW¼, N½SE¼NW¼; and

sec. 17, NE¼NE¼.

The area described contains 390 acres in Beaverhead County.

For a period of 90 days from the date of publication of this notice, all persons who wish to submit comments, suggestions, or objections in connection with the proposed withdrawal may present their views in writing to the Forest Supervisor, Beaverhead-Deerlodge National Forest, at the address indicated above.

Notice is hereby given that an opportunity for a public meeting is afforded in connection with the proposed withdrawal. All interested persons who desire a public meeting for the purpose of being heard on the proposed withdrawal must submit a written request to the Forest Supervisor at the address indicated above within 90 days from the date of publication of this notice. Upon determination by the authorized officer that a public meeting will be held, a notice of the time and place will be published in the Federal Register and a newspaper having a general circulation in the vicinity of the land at least 30 days before the scheduled date of the meeting.

The application will be processed in accordance with the regulations set forth in 43 CFR part 2300.

For a period of 2 years from the date of publication of this notice in the Federal Register, the land will be segregated as specified above unless the application is denied or canceled or the withdrawal is approved prior to that date. The temporary land uses which may be permitted during this segregative period include all activities currently consistent with applicable Forest plans and those related to exercise of valid existing rights, including public recreation and other activities compatible with preservation of the character of the area.

Authority: 43 U.S.C. 1714.

Dated: February 19, 2004.
Howard A. Lemm,
Deputy State Director, Division of Resources.

[FR Doc. 04-8153 Filed 4-9-04; 8:45 am]

BILLING CODE 3410-11-P